DEPARTMENT OF HEALTH AND HUMAN SERVICES

Administration for Children and Families

Submission for Office of Management and Budget Review; Tribal Child Support Enforcement Direct Funding Requests: (Office of Management and Budget #0970-0218)

AGENCY: Office of Child Support Services, Administration for Children and Families, United States Department of Health and Human Services.

ACTION: Request for public comments.

SUMMARY: The Office of Child Support Services (OCSS), Administration for Children and Families (ACF) is requesting to extend approval of revisions to an approved information collection the Tribal Child Support Enforcement Direct Funding Requests (Office of Management and Budget (OMB) #0970-0218). These revisions were approved under an emergency approval for 6-months and included a new requirement for Tribes or Tribal organizations to provide that charging fees and recovering costs will not be permitted.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review-Open for Public Comments” or by using the search function. You can also obtain copies of the proposed collection of information by emailing infocollection@acf.hhs.gov. Identify all emailed requests by the title of the information collection.

SUPPLEMENTARY INFORMATION:

Description: The final rule within 45 CFR part 309, published in the Federal Register on March 30, 2004 at 69 FR 16638, contains a regulatory reporting requirement that, in order to receive funding for a Tribal IV-D program, a Tribe or Tribal organization must submit a plan describing how the Tribe or Tribal organization meets or plans to meet the objectives of section 455(f) of the Social Security Act, including establishing paternity; establishing, modifying, and enforcing support orders; and locating noncustodial parents. The plan is required for all Tribes requesting funding; however, once a Tribe has met the requirements to operate a comprehensive program, a new plan is not required annually unless a Tribe makes changes to its title IV-D program. If a Tribe or Tribal organization intends to make any substantial or material changes, a Tribal IV-D plan amendment must be submitted for approval. Tribes and Tribal organizations must have an approved plan and submit any required plan amendments in order to receive funding to operate a Tribal IV-D program. Through an emergency approval request, OCSS included a new requirement for Tribes and Tribal organizations to provide that charging fees and recovering costs will not be permitted. This is due to the Final Rule on the Elimination of the Non-Federal Share published on February 12, 2024 (see 89 FR 9784). Tribes and Tribal organizations that charge fees and recover cost must submit a plan amendment demonstrating compliance with the proposed new requirement, in accordance with 45 CFR 309.35(d). This is a one-time submission. Only three Tribal child support programs report data on the collection of fees and recovered costs. This request is to extend approval with no changes.

Respondents: Tribes and Tribal Organizations.

Burden Estimates

The following burden estimates include new burden associated with the change in requirement, as well as existing burden under OMB #: 0970-0218.

Instrument | Total number of respondents | Total number of responses per respondent (over three years) | Burden hours per response | Total burden hours (over three years) | Annual burden hours
45 CFR 309—New Plan | 10 | 3 | 480 | 14,400 | 4,800
45 CFR 309—Plan Amendment | 60 | * 2 | 105 | 18,900 | 6,300
45 CFR 309—Plan Amendment—Charging fees and recovering | 3 | 1 | 3 | 9 | 3
Estimated Burden Hours and Costs |  |  |  | 33,309 | 11,103
* This estimate is based on an average number of about 2 amendments submitted per year per Tribe, but that does vary annually and by Tribe.

Authority: Title IV-D of the Social Security Act; 45 CFR 309.

Mary C. Jones,
ACF/OPRE Certifying Officer.

[FR Doc. 2024-03968 Filed 2-26-24; 8:45 am]

BILLING CODE 4184-41-P